DEPARTMENT OF COMMERCE

National Oceanic and Atmospheric Administration

RIN 0648-XV106

South Atlantic Fishery Management Council; Public Meetings

AGENCY: National Marine Fisheries Service (NMFS), National Oceanic and Atmospheric Administration (NOAA), Commerce.

ACTION: Notice of public scoping meetings.

SUMMARY: The South Atlantic Fishery Management Council (Council) will hold scoping meetings via webinar pertaining to Amendment 11 to the Shrimp Fishery Management Plan (FMP) for the South Atlantic Region. The amendment addresses cold-weather transit provisions for shrimp trawlers crossing areas closed due to cold weather.

DATES: The public scoping meetings will be held via webinar on November 5 and November 7, 2019.

ADDRESSES: The meetings will be held via webinar.

Council address: South Atlantic Fishery Management Council, 4055 Faber Place Drive, Suite 201, N Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The scoping meetings will be conducted via webinar beginning at 7 p.m. Registration for the webinars is required. Registration information, a public scoping document, public comment form and any additional information will be posted on the Council's website at https://safmc.net/safmc-meetings/public-hearings-scoping-meetings/ as it becomes available.

Amendment 11 to the Shrimp FMP

The draft amendment proposes modifications to current transit provisions during cold-weather closures of the fishery. Current regulations include provisions that trawl doors be stowed below deck while transiting closed areas. The transit provision is applicable out 25 nautical miles when adjacent state waters are closed. The transit provisions have not been changed since being enacted in 1994. Fishermen have indicated they can no longer store gear below deck due to more recent changes to vessel design and have also expressed concerns about having to use the ocean for transit more often as the Intracoastal Waterway depths are not being maintained for waterway transit.

During the scoping meetings, Council staff will present an overview of the draft amendment and will be available for informal discussions and to answer questions via webinar. Members of the public will have an opportunity to go on record to record their comments for consideration by the Council.

Public comment will also be accepted using the online comment form available at: https://safmc.net/safmc-meetings/public-hearings-scoping-meetings/ or may be addressed to Gregg Waugh, Executive Director, South Atlantic Fishery Management Council, 4055 Faber Place Drive, Suite 201, N Charleston, SC 20405. Comments must be submitted by 5 p.m. on November 8, 2019.

Special Accommodations

These meetings are physically accessible to people with disabilities. Requests for auxiliary aids should be directed to the Council office (see ADDRESSES) 3 days prior to the public hearings.

Note: The times and sequence specified in this agenda are subject to change.

Authority: 16 U.S.C. 1801 et seq.

Dated: October 9, 2019.
Tracey L. Thompson,
Acting Deputy Director, Office of Sustainable Fisheries, National Marine Fisheries Service.

[FR Doc. 2019-22403 Filed 10-11-19; 8:45 am]

BILLING CODE 3510-22-P